PENSION BENEFIT GUARANTY CORPORATION

Proposed Submission of Information Collection for OMB Review; Comment Request; Procedures for Implementing Multiemployer Plan Elections

AGENCY: Pension Benefit Guaranty Corporation.

ACTION: Notice of intention to request OMB approval.

SUMMARY: The Pension Benefit Guaranty Corporation (PBGC) intends to request that the Office of Management and Budget (OMB) approve, under the Paperwork Reduction Act, a collection of information under its procedures on multiemployer plan elections. This notice informs the public of the PBGC's intent and solicits public comment on the collection of information.

DATES: Comments should be submitted by June 12, 2007.

ADDRESSES: Comments may be submitted by any of the following methods:

• Federal eRulemaking Portal: http://www.regulations.gov. Follow the Web site instructions for submitting comments.

• E-mail: paperwork.comments@pbgc.gov.

• Fax: 202-326-4224.

• Mail or Hand Delivery: Legislative and Regulatory Department, Pension Benefit Guaranty Corporation, 1200 K Street, NW., Washington, DC 20005-4026. Comments received will be posted to http://www.pbgc.gov.

Copies of the collection of information may be obtained without charge by writing to the Disclosure Division of the Office of the General Counsel of PBGC at the above address or by visiting the Disclosure Division or calling 202-326-4040 during normal business hours. (TTY and TDD users may call the Federal relay service toll-free at 1-800-877-8339 and ask to be connected to 202-326-4040.)

FOR FURTHER INFORMATION CONTACT: Constance Markakis, Attorney, Legislative and Regulatory Department, Pension Benefit Guaranty Corporation, 1200 K Street, NW., Washington, DC 20005-4026, 202-326-4000, ext. 6779. (For TTY and TDD, call 800-877-8339 and request connection to 202-326-4000, ext. 6779.)

SUPPLEMENTARY INFORMATION: Section 1106 of the Pension Plan Protection Act of 2006 (“PPA 2006”) amends the definition of a “multiemployer plan” in Title I of ERISA and the Internal Revenue Code of 1986 to allow certain plans to elect to be multiemployer plans pursuant to procedures prescribed by PBGC. A plan is eligible for the election if it is (i) a plan revoking a previous election to remain a single-employer plan under section 3(37)(E) of ERISA, or (ii) a plan with respect to which substantially all employer contributions were made by tax-exempt employers. In either case, for the three plan years preceding the enactment of PPA 2006, the plan must have been a plan to which more than one employer was required to contribute that was maintained pursuant to one or more collective bargaining agreements. PPA 2006 also imposes other requirements for an election, and provides certain exemptions from the requirements. All elections must be made by August 17, 2007.

PBGC's proposed procedures for implementing the multiemployer plan election requires a plan to submit specified information to PBGC to demonstrate that it meets the statutory eligibility requirements. The information collection includes names of contributing employers, copies of collective bargaining agreements that require contributions to the plan, numbers of participants and contributions to the plan under those collective bargaining agreements and the plan as a whole, information on common control among contributing employers to the plan, copies of the plan and trust documents, and evidence of the tax-exempt status of contributing employers and the percentage of total plan contributions attributable to these employers. For the limited purposes of the election under section 1106 of PPA 2006, the procedures provide a safe harbor provision for meeting the multiemployer criterion that a plan be “maintained pursuant to collective bargaining agreements.”

The PBGC intends to request that OMB approve this collection of information for three years. (Although plans must make an election by August 17, 2007, PBGC may request additional information, after that date, that is needed to review the election.) An agency may not conduct or sponsor, and a person is not required to respond to, a collection of information unless it displays a currently valid OMB control number.

The PBGC estimates that from 20 to 50 plans will respond to this collection of information. The PBGC further estimates that the average burden of this collection of information is 5 hours and $1,875 per plan, with an average total burden of 175 hours and $65,625.

The PBGC is soliciting public comments to—

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Issued in Washington, DC, this 11th day of April 2007.
Marc A. Felton,
Deputy Chief Information Officer, Pension Benefit Guaranty Corporation.

[FR Doc. E7-7126 Filed 4-12-07; 10:57 am]

BILLING CODE 7709-01-P